DEPARTMENT OF HEALTH AND HUMAN SERVICES

Administration for Children and Families

Proposed Information Collection Activity; Comment Request

Proposed Projects

Title: Required Elements for Voluntary Establishment of Paternity Affidavits.

OMB No.: 0970-0171.

Description: The Department of Health and Human Services is required to provide minimum elements for affidavits for voluntary establishment of paternity. This ensures that all affidavits will have minimum standard sets of information, facilitating their applicability across State and Tribal IV-D agencies. This requirement also ensures that all affidavits will contain information necessary for any future actions with respect to child support obligations.

Respondents: State and Tribal IV-D and birth record agencies.

Annual Burden Estimates
Instrument | Number of respondents | Number of responses per respondent | Average burden hours per response | Total burden hours
None | 862,043 | varies | .166 | 143,099
Estimated Total Annual Burden Hours: 143,099 hours.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 21, 2004.
Robert Sargis,
Reports Clearance Officer.

[FR Doc. 04-28426 Filed 12-28-04; 8:45 am]

BILLING CODE 4184-01-M